DEPARTMENT OF LABOR

Employment and Training Administration

[TA-W-38,360 and NAFTA-4319]

Georgia Pacific Corp. Structural Panel Division—OSB, Baileyville, Maine; Notice of Negative Determination Regarding Application for Reconsideration

By application of February 20, 2001, the Paper, Allied-Industrial, Chemical & Energy Workers International Union (PACE) request administrative reconsideration of the Department's negative determination regarding eligibility for workers and former workers of the subject firm to apply for Trade Adjustment Assistance (TAA) and North American Free Trade Agreement—Transitional Adjustment Assistance (NAFTA-TAA). The denial notices applicable to workers of Georgia Pacific Corporation, Structural Panel Division—OSB, Baileyville, Maine, were signed on January 5, 2001, and published in the Federal Register on February 8, 2001, TA-W-38,360 (66 FR 9599) and NAFTA-4319 (66 FR 9600).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers producing oriented strand board at Georgia Pacific, OSB Operations in Baileyville, Maine, was denied because the “contributed importantly” group eligibility requirement of section 222(3) of the Trade Act of 1974, as amended, was not met. The “contributed importantly” test is generally demonstrated through a survey of customers of the workers' firm's. None of the customers reported increasing import purchases of OSB while decreasing purchases from Georgia Pacific, OSB Operations in Baileyville, Maine.

The NAFTA-TAA petition for the same worker group was denied because criteria (3) and (4) of the group eligibility requirements in paragraph (a)(1) of section 250 of the Trade Act, as amended, were not met. A survey of the major declining customers of Georgia Pacific, Structural Panel Division, showed that none of the respondents increased import purchases of oriented strand board from Mexico or Canada, while reducing purchases from the subject firm. The subject firm did not import oriented strand board, nor was production of oriented strand board shifted from the workers' firm to Mexico or Canada.

The petitioner supplemented the application for reconsideration with information on U.S. imports of OSB-Waferboard and suggested that increased imports of these articles from Canada negatively impacted the OSB producers in the northeastern part of the United States. The Department, when determining import impact for a worker group, does not break out import statistics by port of entry but instead use aggregate import data. For NAFTA-TAA petition investigations the Department examines aggregate U.S. imports from Mexico and Canada. While U.S. import data are helpful in identifying trends in imports of specific products, in most cases, the Department relies a survey of the major declining customers of the subject firm.

The petitioner adds that the Department's survey results regarding customer purchases of oriented strand board are erroneous, citing that a federal official informed PACE that only three customers were surveyed, two of which were other Georgia Pacific divisions, and that Georgia Pacific imports oriented strand board.

The information collected by the Department during the petition investigation is business confidential and cannot be released to the public without express written consent of the individual and/or company official providing the information. The Department cannot release how many customers of the subject firm were surveyed or who responded. The respondents of the survey group for Georgia Pacific represented the majority of the subject firm sales of OSB during the time period when the Baileyville plant had sales and production declines.

The petitioner believes that the subject firm imports OSB. The Department stands corrected in that Georgia Pacific Corporation does import oriented strand board, including purchases from Canada. The investigation, however, showed that company imports of OSB declined.

The petitioner also states that the Department totally disregarded the Maine Department of Labor preliminary affirmative finding that all eligibility criteria for NAFTA-TAA have been met. The petitioner's statement is true, but all preliminary findings for NAFTA-TAA petitions are forwarded to the Department of Labor for a final determination.

Conclusion

After review of the application and investigative findings, I conclude that there has been no error or misinterpretation of the law or of the facts which would justify reconsideration of the Department of Labor's prior decisions. Accordingly, the application is denied.

Signed at Washington, DC, this 30th day of April 2001.
Linda G. Poole,
Certifying Officer, Division of Trade Adjustment Assistance.

[FR Doc. 01-11627 Filed 5-8-01; 8:45 am]

BILLING CODE 4510-30-M